DEPARTMENT OF ENERGY

[Case Number 2018-011, EERE-2018-BT-WAV-0001]

Energy Conservation Program: Extension of Waiver to HH Technologies From the Department of Energy Walk-in Cooler and Walk-in Freezer Test Procedure

AGENCY: Office of Energy Efficiency and Renewable Energy, Department of Energy.

ACTION: Notice of extension of waiver.

SUMMARY: The U.S. Department of Energy (“DOE”) is granting a waiver extension (Case No. 2018-011) to HH Technologies to waive certain requirements of the DOE walk-in cooler and walk-in freezer test procedure for determining the energy consumption of thirty-five (35) RollSeal Automated Door System brand walk-in door basic models specified in their petition. HH Technologies is required to test and rate these basic models in accordance with the alternate test procedure specified.

DATES: The Extension of Waiver is effective on February 4, 2019. The Extension of Waiver will terminate upon the compliance date of any future amendment to the test procedure for walk-in doors located at 10 CFR part 431, subpart R, appendix A that addresses the issues presented in this waiver. At such time, HH Technologies must use the relevant test procedure for this equipment for any testing to demonstrate compliance with the applicable standards, and any other representations of energy use.

FOR FURTHER INFORMATION CONTACT: Ms. Lucy deButts, U.S. Department of Energy, Office of Energy Efficiency and Renewable Energy, Building Technologies Office, EE-5B, 1000 Independence Avenue SW, Washington, DC 20585-0121. Email: AS_Waiver_Requests@ee.doe.gov.

Mr. Michael Kido, U.S. Department of Energy, Office of the General Counsel, Mail Stop GC-33, Forrestal Building, 1000 Independence Avenue SW, Washington, DC 20585-0103. Telephone: (202) 586-8145. Email: Michael.Kido@hq.doe.gov.

SUPPLEMENTARY INFORMATION: In accordance with Title 10 of the Code of Federal Regulations (10 CFR 431.401(g)), DOE gives notice of the issuance of an Extension of Waiver as set forth below. The Extension of Waiver extends the Decision and Order granted to HH Technologies on October 23, 2018 (83 FR 53457, “October 2018 Decision and Order”) to include thirty-five (35) additional RollSeal Automated Door System brand basic models ¹ of walk-in cooler doors, as requested by HH Technologies on November 5, 2018.² HH Technologies must test and rate the specifically identified walk-in door basic models in accordance with the alternate test procedure specified in the October 2018 Decision and Order. HH Technologies' representations concerning the energy efficiency of the specified basic models must be based on testing according to the provisions and restrictions in the alternate test procedure set forth in the October 2018 Decision and Order, and the representations must fairly disclose the results from that testing. Distributors, retailers, and private labelers are held to the same requirements when making representations regarding the energy efficiency of these products. (42 U.S.C. 6314(d))

¹ The additional basic models are as follows: RS-500 5K036x084, RS-500 5K042x084, RS-500 5K048x084, RS-500 5K054x084, RS-500 5K060x084, RS-500 5K066x084, RS-500 5K072x084, RS-500 5K036x090, RS-500 5K042x090, RS-500 5K048x090, RS-500 5K054x090, RS-500 5K060x090, RS-500 5K066x090, RS-500 5K072x090, RS-500 5K036x096, RS-500 5K042x096, RS-500 5K048x096, RS-500 5K054x096, RS-500 5K060x096, RS-500 5K066x096, RS-500 5K072x096, RS-500 5K036x102, RS-500 5K042x102, RS-500 5K048x102, RS-500 5K054x102, RS-500 5K060x102, RS-500 5K066x102, RS-500 5K072x102, RS-500 5K036x108, RS-500 5K042x108, RS-500 5K048x108, RS-500 5K054x108, RS-500 5K060x108, RS-500 5K066x108, RS-500 5K072x108.

² HH Technologies' request is available at https://www.regulations.gov/document?D=EERE-2018-BT-WAV-0001-0015.

DOE makes decisions on waiver extensions for only those basic models specifically set out in the request, not future models that may be manufactured by the petitioner. HH Technologies may submit a new or amended petition for waiver and request for grant of interim waiver, as appropriate, for additional basic models of walk-in doors. Alternatively, if appropriate, HH Technologies may request that DOE extend the scope of a waiver to include additional basic models employing the same technology as the basic model(s) set forth in the original petition consistent with 10 CFR 431.401(g).

Signed in Washington, DC, on January 18, 2019.
Steven Chalk,
Acting Deputy Assistant Secretary for Energy Efficiency, Energy Efficiency and Renewable Energy.

Case Number 2018-011

Extension of Waiver

I. Background and Authority

The Energy Policy and Conservation Act of 1975, as amended (“EPCA”),³ among other things, authorizes DOE to regulate the energy efficiency of a number of consumer products and industrial equipment. (42 U.S.C. 6291-6317) Title III, Part C ⁴ of EPCA established the Energy Conservation Program for Certain Industrial Equipment, which sets forth a variety of provisions designed to improve energy efficiency for certain types of industrial equipment. This equipment includes walk-in coolers and walk-in freezers, the focus of this extension. (42 U.S.C. 6311(1)(G))

³ All references to EPCA in this document refer to the statute as amended through the EPS Improvement Act of 2017, Public Law 115-115 (January 12, 2018).

⁴ For editorial reasons, upon codification in the U.S. Code, Part C was redesignated as Part A-1.

Under EPCA, DOE's energy conservation program consists essentially of four parts: (1) Testing, (2) labeling, (3) Federal energy conservation standards, and (4) certification and enforcement procedures. Relevant provisions of the Act include definitions (42 U.S.C. 6311), energy conservation standards (42 U.S.C. 6313), test procedures (42 U.S.C. 6314), labeling provisions (42 U.S.C. 6315), and the authority to require information and reports from manufacturers. (42 U.S.C. 6316)

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA. (42 U.S.C. 6316(a); 42 U.S.C. 6295(s))

Under 42 U.S.C. 6314, EPCA sets forth the criteria and procedures DOE must follow when prescribing or amending test procedures for covered equipment. EPCA requires that any test procedures prescribed or amended under this section must be reasonably designed to produce test results reflecting the energy efficiency, energy use, or estimated annual operating costs during a representative average use cycle, and requires that test procedures not be unduly burdensome to conduct. (42 U.S.C. 6314(a)(2)) The test procedure for walk-in doors is contained in 10 CFR part 431, subpart R, appendix A (“Appendix A”).

The regulations set forth in 10 CFR 431.401 provide that upon receipt of a petition, DOE will grant a waiver from the test procedure requirements if DOE determines either that the basic model for which the waiver was requested contains a design characteristic that prevents testing of the basic model according to the prescribed test procedure, or that the prescribed test procedure evaluates the basic model in a manner so unrepresentative of its true energy consumption characteristics as to provide materially inaccurate comparative data. 10 CFR 431.401(f)(2). DOE may grant the waiver subject to conditions, including adherence to alternate test procedures. Id.

A petitioner may request that DOE extend the scope of a waiver or an interim waiver to include additional basic models employing the same technology as the basic model(s) set forth in the original petition. 10 CFR 431.401(g). DOE will publish any such extension in the Federal Register. Id.

II. Request for an Extension of Waiver: Assertions and Determinations

On October 23, 2018, DOE issued a Decision and Order in Case Number 2018-001 granting HH Technologies a waiver to test the RollSeal Automated Door System brand basic models identified in its petition ⁵ using an alternate test procedure. 83 FR 53457 (“October 2018 Decision and Order”). HH Technologies stated that the test procedure applicable to walk-in doors set forth in 10 CFR part 431, subpart R, appendix A overstated the power consumption of the specified automated doors.

⁵ The specific walk-in door basic models that are subject of the petition for waiver and application for interim waiver are included in HH Technologies' petition, which is available in the docket at http://www.regulations.gov/docket?D=EERE-2018-BT-WAV-0001.

Appendix A accounts for the power consumption of all electrical components associated with each door and discounts the power consumption of electrical components based on their operating time by an assigned percent time off (“PTO”) value. 10 CFR part 431, subpart R, appendix A, section 4.5.2. Section 4.5.2 of appendix A specifies a PTO of 25% for “other electricity-consuming devices” (i.e., electrical devices other than lighting or anti-sweat heaters) that have demand-based controls, and a PTO of 0% for other electricity-consuming devices without a demand-based control. Id. In its petition for waiver, HH Technologies suggested applying a PTO value of 96% to the door motors and controls in the basic models specified in its petition. The walk-in door basic models specified by HH Technologies are automated and designed with microprocessor controls that use motion sensor inputs to trigger a door motor, which are considered by the DOE test procedure to be “other electricity-consuming devices with demand-based control.” HH Technologies asserted that the current PTO value overestimates the time that the motors and controls in the specified automated doors are in operation in high traffic applications. HH Technologies stated that as a result, the power consumption of the specified automated door motors and controls is overestimated.

Based on the information provided by HH Technologies, DOE determined that the basic models identified by HH Technologies in its petition cannot be tested and rated for energy consumption on a basis representative of their true energy consumption characteristics under the test procedure detailed under 10 CFR part 431, subpart R, appendix A. 83 FR 53457, 53458. The October 2018 Decision and Order specified that HH Technologies test and rate the subject basic models by using a PTO value of 96% for door motors. 83 FR 53457, 53459.

On November 5, 2018, HH Technologies submitted a request to extend the scope of the waiver it received in Case Number 2018-001 to thirty-five (35) additional RollSeal Automated Door System brand basic models.⁶ HH Technologies stated that these basic models employ the same technology as the models covered by the existing waiver.

⁶ The additional basic models are as follows: RS-500 5K036x084, RS-500 5K042x084, RS-500 5K048x084, RS-500 5K054x084, RS-500 5K060x084, RS-500 5K066x084, RS-500 5K072x084, RS-500 5K036x090, RS-500 5K042x090, RS-500 5K048x090, RS-500 5K054x090, RS-500 5K060x090, RS-500 5K066x090, RS-500 5K072x090, RS-500 5K036x096, RS-500 5K042x096, RS-500 5K048x096, RS-500 5K054x096, RS-500 5K060x096, RS-500 5K066x096, RS-500 5K072x096, RS-500 5K036x102, RS-500 5K042x102, RS-500 5K048x102, RS-500 5K054x102, RS-500 5K060x102, RS-500 5K066x102, RS-500 5K072x102, RS-500 5K036x108, RS-500 5K042x108, RS-500 5K048x108, RS-500 5K054x108, RS-500 5K060x108, RS-500 5K066x108, RS-500 5K072x108.

DOE has reviewed HH Technologies' waiver extension request and determined that the basic models identified in HH Technologies' request incorporate the same design characteristics as those basic models covered under the waiver in Case Number 2018-001 such that the test procedure would evaluate those basic models in a manner that is unrepresentative of their actual energy use. DOE has also determined that the alternate procedure specified in Case Number 2018-001 will allow for the accurate measurement of the energy use of the walk-in door basic models identified by HH Technologies in its waiver extension request.

III. Order

After careful consideration of HH Technologies' request that DOE extend the scope of the waiver granted under Case Number 2018-001 to include additional basic models, it is ORDERED that:

(1) HH Technologies must, as of the date of publication of this Extension of Waiver in the Federal Register, test and rate the following walk-in door basic models with the alternate test procedure as set forth in paragraph (2):

Brand name | Basic model
RollSeal Automated Door System | RS-500 5K036x084
RollSeal Automated Door System | RS-500 5K042x084
RollSeal Automated Door System | RS-500 5K048x084
RollSeal Automated Door System | RS-500 5K054x084
RollSeal Automated Door System | RS-500 5K060x084
RollSeal Automated Door System | RS-500 5K066x084
RollSeal Automated Door System | RS-500 5K072x084
RollSeal Automated Door System | RS-500 5K036x090
RollSeal Automated Door System | RS-500 5K042x090
RollSeal Automated Door System | RS-500 5K048x090
RollSeal Automated Door System | RS-500 5K054x090
RollSeal Automated Door System | RS-500 5K060x090
RollSeal Automated Door System | RS-500 5K066x090
RollSeal Automated Door System | RS-500 5K072x090
RollSeal Automated Door System | RS-500 5K036x096
RollSeal Automated Door System | RS-500 5K042x096
RollSeal Automated Door System | RS-500 5K048x096
RollSeal Automated Door System | RS-500 5K054x096
RollSeal Automated Door System | RS-500 5K060x096
RollSeal Automated Door System | RS-500 5K066x096
RollSeal Automated Door System | RS-500 5K072x096
RollSeal Automated Door System | RS-500 5K036x102
RollSeal Automated Door System | RS-500 5K042x102
RollSeal Automated Door System | RS-500 5K048x102
RollSeal Automated Door System | RS-500 5K054x102
RollSeal Automated Door System | RS-500 5K060x102
RollSeal Automated Door System | RS-500 5K066x102
RollSeal Automated Door System | RS-500 5K072x102
RollSeal Automated Door System | RS-500 5K036x108
RollSeal Automated Door System | RS-500 5K042x108
RollSeal Automated Door System | RS-500 5K048x108
RollSeal Automated Door System | RS-500 5K054x108
RollSeal Automated Door System | RS-500 5K060x108
RollSeal Automated Door System | RS-500 5K066x108
RollSeal Automated Door System | RS-500 5K072x108

(2) The alternate test procedure for the HH Technologies basic models referenced in paragraph (1) of this Order is the test procedure for walk-in doors prescribed by DOE at 10 CFR part 431, subpart R, appendix A, except that the percent time off (“PTO”) value specified in section 4.5.2 “Direct Energy Consumption of Electrical Components of Non-Display Doors” shall be 96% for door motors. All other requirements of 10 CFR part 431, subpart R, appendix A and DOE's regulations remain applicable.

(3) Representations. HH Technologies may not make representations about the energy use of the basic models identified in paragraph (1) of this Order for compliance, marketing, or other purposes unless the basic model has been tested in accordance with the provisions set forth above and such representations fairly disclose the results of such testing in accordance with 10 CFR part 431, subpart R, appendix A and 10 CFR part 429, subpart B, as specified in this Order.

(4) This Extension of Waiver shall remain in effect consistent with the provisions of 10 CFR 431.401.

(5) This Extension of Waiver is issued on the condition that the statements, representations, and documents provided by HH Technologies are valid. If HH Technologies makes any modifications to the controls or configurations of these basic models, the waiver will no longer be valid and HH Technologies will either be required to use the current Federal test method or submit a new application for a test procedure waiver. DOE may rescind or modify this Extension of Waiver at any time if it determines the factual basis underlying the petition for Extension of Waiver is incorrect, or the results from the alternate test procedure are unrepresentative of the basic model's true energy consumption characteristics. 10 CFR 431.401(k)(1). Likewise, HH Technologies may request that DOE rescind or modify the Extension of Waiver if HH Technologies discovers an error in the information provided to DOE as part of its petition, determines that the waiver is no longer needed, or for other appropriate reasons. 10 CFR 431.401(k)(2).

(6) Granting of this Extension of Waiver does not release HH Technologies from the certification requirements set forth at 10 CFR part 429.

Signed in Washington, DC, on January 18, 2019.

Steven Chalk,

Acting Deputy Assistant Secretary for Energy Efficiency Energy Efficiency and Renewable Energy.

[FR Doc. 2019-00886 Filed 2-1-19; 8:45 am]

BILLING CODE 6450-01-P